DEPARTMENT OF STATE

[Public Notice: 10039]

Notice of Receipt of Request From Libya Under Article 9 of the 1970 UNESCO Convention on the Means of Prohibiting and Preventing the Illicit Import, Export and Transfer of Ownership of Cultural Property

AGENCY: Department of State.

ACTION: Notice.

The Government of Libya has made a request to the Government of the United States under Article 9 of the 1970 UNESCO Convention on the Means of Prohibiting and Preventing the Illicit Import, Export and Transfer of Ownership of Cultural Property. The United States Department of State received this request on May 30, 2017. Libya's request seeks U.S. import restrictions on archaeological and/or ethnological materials representing Libya's cultural patrimony from the prehistoric through Ottoman Era. Pursuant to the authority vested in the Assistant Secretary of State for Educational and Cultural Affairs, and pursuant to 19 U.S.C. 2602(f)(1), notification of the request is hereby published.

FOR FURTHER INFORMATION CONTACT: Catherine Foster at 202-632-6310, or the Cultural Heritage Center, Bureau of Educational and Cultural Affairs: 202-632-6301; CulProp@state.gov.

SUPPLEMENTARY INFORMATION: A public summary of Libya's request and information about U.S. implementation of the 1970 UNESCO Convention can be found at the Cultural Heritage Center Web site: http://culturalheritage.state.gov.

Mark Taplin,
Acting Assistant Secretary, Bureau of Educational and Cultural Affairs, Department of State.

[FR Doc. 2017-12503 Filed 6-15-17; 8:45 am]

BILLING CODE 4710-05-P